DEPARTMENT OF TRANSPORTATION

Maritime Administration

Reports, Forms and Recordkeeping Requirements; Agency Information Collection Activity under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on August 16, 2005, and comments were due by October 17, 2005. No comments were received.

DATES: Comments must be submitted on or before December 1, 2005.

FOR FURTHER INFORMATION CONTACT: Richard Walker, Maritime Administration, 400 Seventh Street Southwest, Washington, DC 20590; Telephone: 202-366-5076, FAX: 202-366-6988, or e-mail: Richard.walker@dot.gov. Copies of this collection also can be obtained from that office.

SUPPLEMENTARY INFORMATION: Maritime Administration (MARAD).

Title: Inventory of American Intermodal Equipment.

OMB Control Number: 2133-0503.

Type of Request: Extension of currently approved collection.

Affected Public: Owners of U.S. steamship and intermodal equipment leasing companies.

Forms: None.

Abstract: This collection consists of an intermodal equipment inventory that provides data essential to both the government and the transportation industry in planning for the most efficient use of intermodal equipment. Further, this collection is intended to assure that containers and related intermodal equipment are obtainable in the event of a national emergency.

Annual Estimated Burden Hours: 66 hours.

ADDRESSES: Send comments to the Office of Information and Regulatory Affairs, Office of Management and Budget, 725 17th Street Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC on October 24, 2005.
Joel C. Richard,
Secretary, Maritime Administration.

[FR Doc. 05-21734 Filed 10-31-05; 8:45 am]

BILLING CODE 4910-81-P